CONSUMER PRODUCT SAFETY COMMISSION

Sunshine Act Meetings

TIME AND DATE: Wednesday, October 18, 2023—10:00 a.m.

PLACE: Room 420, Bethesda Towers, 4330 East-West Highway, Bethesda, MD.

STATUS: Commission Meeting—Open to the Public.

MATTERS TO BE CONSIDERED: Decisional Matter: Safety Standard Addressing Blade-Contact Injuries on Table Saws.

A live webcast of the meeting can be viewed at the following link: https://cpsc.webex.com/weblink/register/r88f341de3262d93f0deb0453a6e10f43.

CONTACT PERSON FOR MORE INFORMATION: Alberta E. Mills, Office of the Secretary, U.S. Consumer Product Safety Commission, 4330 East West Highway, Bethesda, MD 20814, 301-504-7479 (Office) or 240-863-8938 (Cell).

Dated: October 11, 2023.
Alberta E. Mills,
Commission Secretary.

[FR Doc. 2023-22824 Filed 10-12-23; 11:15 am]

BILLING CODE 6355-01-P